DEPARTMENT OF AGRICULTURE

Forest Service

36 CFR Part 242

DEPARTMENT OF THE INTERIOR

Fish and Wildlife Service

50 CFR Part 100

[Docket No. FWS-R7-SM-2024-0017; 256D0102DM DS61900000 DMSN00000.000000 DX61901; 70101-1261-0000L6]

RIN 1018-BH67

Subsistence Management Regulations for Public Lands in Alaska—Subpart B, Federal Subsistence Board Membership; Correction

AGENCY: Forest Service, Agriculture; Fish and Wildlife Service, Interior.

ACTION: Final rule; correction.

SUMMARY: The Departments of the Interior and Agriculture are correcting an amendatory instruction in the final rule that published in the Federal Register on October 17, 2024. That rule revises the regulations concerning the composition of the Federal Subsistence Board, which has authority to administer the subsistence taking and uses of fish and wildlife on public lands in Alaska.

DATES: Effective November 18, 2024.

FOR FURTHER INFORMATION CONTACT: Crystal Leonetti, Acting Director, Office of Subsistence Management; 907-786-3888; or subsistence@ios.doi.gov. For questions specific to National Forest System lands, contact Gregory Risdahl, Regional Subsistence Program Leader, USDA, Forest Service, Alaska Region; 907-302-7354 or gregory.risdahl@usda.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: In the final rule that published in the Federal Register on October 17, 2024, at 89 FR 83622, on page 83628, in the first column, amendatory instruction 2 is corrected to read as follows:

2. In subpart B of 36 CFR part 242 and 50 CFR part 100, amend § __.10 by:

a. Revising paragraphs (a), (b), and (d)(2); and

b. Adding paragraphs (d)(11) through (14).

The revisions and additions read as follows:

Joan Mooney,
Principal Deputy Assistant Secretary, Exercising the Delegated Authority of the Assistant Secretary—Policy, Management and Budget, Department of the Interior.
Homer Wilkes,
Undersecretary, Natural Resources and Environment, Department of Agriculture.

[FR Doc. 2024-26119 Filed 11-12-24; 8:45 am]

BILLING CODE 3410-11-P; 4334-13-P